ENVIRONMENTAL PROTECTION AGENCY

40 CFR Part 52

[Region II Docket No. R02-OAR-2004-NJ-0002, FRL-7779-3]

Approval and Promulgation of Implementation Plans; New Jersey; Revised Motor Vehicle Transportation Conformity Budgets

AGENCY: Environmental Protection Agency (EPA).

ACTION: Proposed rule.

SUMMARY: EPA is proposing to approve a revision to the New Jersey State Implementation Plan (SIP) transportation conformity budgets for carbon monoxide and ozone precursors. These budgets are being revised to reflect updated modeling estimates, as well as updated vehicle registration data. The intended effect of this action is to approve a SIP revision that will help the State continue to maintain the carbon monoxide National Ambient Air Quality Standards (NAAQS) and to continue progress in attainment of the 1-hour NAAQS for ozone in the Northern New Jersey-New York-Long Island nonattainment area (NAA).

DATES: Comments must be received on or before July 28, 2004. Public comments on this action are requested and will be considered before taking final action.

ADDRESSES: Submit your comments, identified by Regional Material in EDocket (RME) ID Number R02-OAR-2004-NJ-0002 by one of the following methods:

1. Federal eRulemaking Portal:http://www.regulations.gov. Follow the on-line instructions for submitting comments.

2. Agency Web site: http://docket.epa.gov/rmepub/ Regional Material in EDocket (RME), EPA's electronic public docket and comment system, is EPA's preferred method for receiving comments. Once in the system, select “quick search,” then key in the appropriate RME Docket identification number. Follow the on-line instructions for submitting comments.

3. E-mail: Werner.Raymond@epa.gov

4. Fax: (212) 637-3901.

5. Mail: “RME ID Number R02-OAR-2004-NJ-0002”, Raymond Werner, Chief, Air Programs Branch, Environmental Protection Agency, Region 2 Office, 290 Broadway, 25th Floor, New York, New York 10007-1866.

6. Hand Delivery or Courier. Deliver your comments to: Raymond Werner, Chief, Air Programs Branch, Environmental Protection Agency, Region 2 Office, 290 Broadway, 25th Floor, New York, New York 10007-1866. Such deliveries are only accepted during the Regional Office's normal hours of operation. The Regional Office's official hours of business are Monday through Friday, 8:30 to 4:30, excluding Federal holidays.

Instructions: Direct your comments to Regional Material in EDocket (RME) ID Number R02-OAR-2004-NJ-0002. EPA's policy is that all comments received will be included in the public docket without change and may be made available online at http://docket.epa.gov/rmepub/, including any personal information provided, unless the comment includes information claimed to be Confidential Business Information (CBI) or other information whose disclosure is restricted by statute. Do not submit information that you consider to be CBI or otherwise protected through Regional Material in EDocket (RME), regulations.gov, or e-mail. The EPA RME Web site and the federal regulations.gov Web site are “anonymous access” systems, which means EPA will not know your identity or contact information unless you provide it in the body of your comment. If you send an e-mail comment directly to EPA without going through RME or regulations.gov, your e-mail address will be automatically captured and included as part of the comment that is placed in the public docket and made available on the Internet. If you submit an electronic comment, EPA recommends that you include your name and other contact information in the body of your comment and with any disk or CD—ROM you submit. If EPA cannot read your comment due to technical difficulties and cannot contact you for clarification, EPA may not be able to consider your comment. Electronic files should avoid the use of special characters, any form of encryption, and be free of any defects or viruses.

Docket: All documents in the electronic docket are listed in the Regional Material in EDocket (RME) index at http://docket.epa.gov/rmepub/. Although listed in the index, some information is not publicly available, i.e., CBI or other information whose disclosure is restricted by statute. Certain other material, such as copyrighted material, is not placed on the Internet and will be publicly available only in hard copy form. Publicly available docket materials are available either electronically in RME or in hard copy at the Air Programs Branch, Environmental Protection Agency, Region 2 Office, 290 Broadway, 25th Floor, New York, New York 10007-1866. EPA requests that if at all possible, you contact the contact listed in the FOR FURTHER INFORMATION CONTACT section to schedule your inspection. The Regional Office's official hours of business are Monday through Friday, 8:30 to 4:30, excluding Federal holidays.

FOR FURTHER INFORMATION CONTACT: Reema Persaud, Air Programs Branch, Environmental Protection Agency, 290 Broadway, 25th Floor, New York, New York 10007-1866, (212) 637-4249, persaud.reema@epa.gov.

SUPPLEMENTARY INFORMATION: This document is being proposed under a procedure called parallel processing. Under parallel processing, EPA proposes action on a state submission before it has been formally adopted and submitted to EPA, and will take final action on its proposal if the final submission is substantially unchanged from the submission on which the proposal is based, or if significant changes in the final submission are anticipated and adequately described in EPA's proposal as a basis for EPA's proposed action.

New Jersey held a public hearing on its proposed SIP revision on April 14, 2004. If New Jersey's proposed SIP revision is substantially changed, EPA will evaluate those changes and may publish another notice of proposed rulemaking. If no substantial changes are made, EPA will take final action on the State's plan consistent with this proposal and any submitted comments. Before EPA can approve this SIP revision, New Jersey must adopt the SIP revision and submit it formally to EPA for incorporation into the SIP.

Table of Contents

1. Background

2. What is MOBILE6?

3. What is the purpose and content of New Jersey's submittal?

4. Are New Jersey's motor vehicle emissions budgets approvable?

5. Summary of Conclusions and Proposed Action

6. Statutory and Executive Order Reviews

1. Background

All states whose attainment demonstrations or maintenance plans included interim MOBILE5-based estimates for EPA's Tier 2 standards were required to revise and resubmit their budgets within 1 or 2 years of the final release of MOBILE6 in order to gain SIP approval. On January 31, 2003, New Jersey submitted its first MOBILE6 submittal. This SIP submittal demonstrated the continued attainment of the ozone standard, and was approved by EPA on May 5, 2003, see 68 FR 23662.

On March 15, 2004, New Jersey submitted a, SIP revision (hereinafter referred to as the March 15, 2004 submittal) that demonstrated the continued attainment of the CO standard using MOBILE6 modeling. The previous MOBILE5-based CO estimates were approved by EPA on July 25, 1996, see 61 FR 38591. Also included in the March 15, 2004 revision were revised budgets for the one-hour ozone attainment demonstration using 2002 vehicle registration data for the New Jersey portions of the two severe ozone NAAs—the New York-Northern New Jersey-Long Island Area, the Northern New Jersey NAA and the Trenton-Philadelphia-Wilmington NAA.

2. What Is MOBILE6?

MOBILE6 is an EPA emissions factor model for estimating pollution from on-road motor vehicles in states outside of California. MOBILE calculates emissions of volatile organic compounds (VOCs), nitrogen oxides (NOX) and carbon monoxide (CO) from passenger cars, motorcycles, buses, and light-duty and heavy-duty trucks. The model accounts for the emission impacts of factors such as changes in vehicle emission standards, changes in vehicle populations and activity, and variation in local conditions such as temperature, humidity, fuel quality, and air quality programs. Further details on MOBILE models can be found in EPA's final approval of the State's 2003 MOBILE6 SIP revision at 68 FR 23662 (May 5, 2003), and also at http://www.epa.gov/otaq/mobile6.htm.

3. What Is the Purpose and Content of New Jersey's Submittal?

The purpose of the SIP revision the State submitted on March 15, 2004 is to revise the existing CO budget estimates using MOBILE6, and to incorporate updated 2002 vehicle registration data that has recently been made available to New Jersey. The CO budgets are being updated to ensure consistency with the requirement that New Jersey Metropolitan Planning Organizations (MPOs) use EPA's latest MOBILE model for their conformity determinations. The VOC and NOX budgets for the North Jersey Transportation Planning Authority are also being updated to incorporate the 2002 vehicle registration information.

4. Are New Jersey's Motor Vehicle Emissions Budgets Approvable?

Table 1 below summarizes New Jersey's revised budgets contained in the March 15, 2004 submittal. These budgets were developed using the latest planning assumptions, including the latest MOBILE model, 2002 vehicle registration data, VMT, speeds, fleet mix, and SIP control measures. For the North Jersey Transportation Planning Authority (NJTPA) the 2005 VOC and NOX budgets are revised budgets based on the Reasonable Further Progress (RFP) Plans, while the 2007 VOC and NOX budgets are revised attainment year budgets. The CO budgets are updated maintenance budgets using MOBILE6 modeling, as well as 2002 vehicle registration data. EPA is proposing to approve all of these budgets.

The MOBILE6 modeling predicts an increase in the NOX budget of 3.01 tons per day and a reduction in the VOC budget of 13.7 tons per day for NJTPA in 2005. Also, the updated modeling estimates an increase in the NOX budget of 1.15 tons per day and a reduction in the VOC budget of 12.95 tons per day in 2007. The March 15, 2004 submittal demonstrated that the new levels of motor vehicle budgets calculated using MOBILE6, compared to MOBILE5 based budgets, continue to support achievement of the rate of progress requirements and projected attainment of the 1-hour ozone NAAQS for the Northern New Jersey nonattainment area by 2007.

Generally, EPA's updated version of the motor vehicle emissions model, MOBILE6 results in greater emission when compared to MOBILE5. The emission factors generated by the MOBILE6 modeling are higher than those estimated with the MOBILE5 model in the years before 2007. When comparing budgets generated for 1997 there was an increase in the budgets of 860.31 tons of CO per day when compared to MOBILE5 modeling. However, the monitored CO concentrations continue to indicate a downward trend. Similarly, through MOBILE6 modeling, estimates for the Northern New Jersey maintenance area for year 2007 indicate an increase in the CO budget of 290.98 tons per day, and an increase of 115.18 tons per day for the year 2014 over the emission estimates of prior budgets. EPA attributes the increased emissions to the way the MOBILE models calculates emissions, rather than an increase in emission trends. Since future conformity determinations will be modeled using MOBILE6, the revised emission budgets are appropriate.

The CO updates for SJTPO indicated a 32.55 tons per winter day increase in the estimated conformity budgets for Atlantic County and 0.88 tons per winter day increase for Salem County. The updated budgets for CO for DVRPC indicate a 32.85 tons per winter day increase for Burlington County, and 20.4 tons per winter day increase for Mercer County, and 13.96 tons per winter day decrease in the CO budget for Camden County. As discussed above, the changes to the CO emission budgets do not affect the CO maintenance plan trends. There continues to be a downward trend in CO emissions, therefore EPA proposes to approve these budgets.

The March 15, 2004 SIP revision demonstrated that the updated budgets continue to support the predicted achievements of the rate of progress and the projected attainment of the 1-hour ozone NAAQS for Northern New Jersey/New York City/Long Island nonattainment area by attainment date 2007. The SIP submittal also indicates that with the MOBILE6 modeling together with the downward CO air quality monitoring trends, emission trends over time are still downward, so the updates to the CO budgets do not affect the continued maintenance of the CO NAAQS for each CO maintenance area.

Table 1.—New Jersey Motor Vehicle Emissions Budgets
| CO emissions (tons per winter day): 1997 | CO emissions (tons per winter day): 2007 | CO emissions (tons per winter day): 2014 | VOC emissions (tons per ozone day): 2005 | VOC emissions (tons per ozone day): 2007 | NOX emissions (tons per ozone day): 2005 | NOX emissions (tons per ozone day): 2007
North Jersey Transportation Planning Authority (NJTPA) | ¹1550.74 | 783.39 | 605.63 | ² 148.27 | ² 125.82 | ² 253.06 | ² 198.34
South Jersey Transportation Planning Organization (SJTPO) | ³ NA | Atlantic Co. 91.68 Salem Co. 31.99 | NA | NA | NA | NA | NA
Delaware Valley Regional Planning Commission (DVRPC) | NA | Burlington Co. 170.43 Camden Co. 149.73 Mercer Co. 128.49 | NA | NA | NA | NA | NA
¹ For Passaic, Bergen, Essex, Hudson and Union counties.
² For all counties within the MPO.
³ NA—Budgets revisions not applicable.

5. Summary of Conclusions and Proposed Action

This revision is being proposed under a procedure called parallel processing, whereby EPA proposes rulemaking action concurrently with the State's procedures for amending its regulations. If the proposed revision is substantially changed, EPA will evaluate those changes and may publish another notice of proposed rulemaking. If no substantial changes are made, EPA will publish a final rulemaking on the revisions. The final rulemaking action by EPA will occur only after the SIP revision has been adopted by New Jersey and submitted formally to EPA for incorporation into the SIP.

EPA is proposing to approve New Jersey's proposed SIP revision submitted on March 15, 2004. The submittal revises New Jersey's transportation conformity budgets for CO and ozone precursors. MOBILE6 modeling, which incorporated 2002 vehicle registration data indicates that together with the downward CO air quality monitoring trends, emission trends over time are still downward and the updates to the CO budgets do not affect the continued maintenance of the CO NAAQS for each CO maintenance area. The updated volatile organic compound and oxides of nitrogen budgets continue to support the predicted achievements of the rate of progress and the projected attainment of the 1-hour ozone NAAQS for Northern New Jersey/NewYork City/Long Island nonattainment area by the attainment date of 2007.

6. Statutory and Executive Order Reviews

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355, May 22, 2001). This proposed action merely proposes to approve state law as meeting Federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Public Law 104-4).

This proposed rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely proposes to approve a state rule implementing a Federal standard, and does not alter the relationship or the distribution of power and responsibilities established in the Clean Air Act. This proposed rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This proposed rule does not impose an information collection burden under the provisions of the Paperwork Reduction Act of 1995 (44 U.S.C. 3501 et seq.).

List of Subjects in 40 CFR Part 52

Environmental protection, Air pollution control, Carbon monoxide, Intergovernmental relations, Nitrogen dioxide, Ozone, Reporting and recordkeeping requirements, Volatile organic compounds.

Authority: 42 U.S.C. 7401 et seq.

Dated: June 17, 2004.
Jane M. Kenny,
Regional Administrator, Region 2.

[FR Doc. 04-14605 Filed 6-25-04; 8:45 am]

BILLING CODE 6560-50-P